DEPARTMENT OF HOMELAND SECURITY

[Docket No. DHS-2011-0010]

Infrastructure Protection Data Call Survey

AGENCY: National Protection and Programs Directorate, DHS.

ACTION: 60-Day Notice and request for comments; New Information Collection Request: 1670-NEW.

SUMMARY: The Department of Homeland Security (DHS), National Protection and Programs Directorate (NPPD), Office of Infrastructure Protection (IP), will submit the following Information Collection Request (ICR) to the Office of Management and Budget (OMB) for review and clearance in accordance with the Paperwork Reduction Act of 1995 (Pub. L. 104-13, 44 U.S.C. Chapter 35).

DATES: Comments are encouraged and will be accepted until May 31, 2011. This process is conducted in accordance with 5 CFR 1320.1

ADDRESSES: Written comments and questions about this Information Collection Request should be forwarded to DHS/NPPD/IP, 245 Murray Lane, SW., Mail Stop 0602, Arlington, VA 20598-0602. E-mailed requests should go to Cristiena Galeckas at cristiena.galeckas@dhs.gov. Written comments should reach the contact person listed no later than May 31, 2011. Comments must be identified by DHS-2011-0010 and may be submitted by one of the following methods:

• Federal eRulemaking Portal: http://www.regulations.gov.

• E-mail: cristiena.galeckas@dhs.gov. Include the docket number in the subject line of the message.

Instructions: All submissions received must include the words “Department of Homeland Security” and the docket number for this action. Comments received will be posted without alteration at http://www.regulations.gov, including any personal information provided.

SUPPLEMENTARY INFORMATION:

The Homeland Security Act of 2002 assigns DHS the responsibility to lead the national effort to identify, prioritize, and assess the nature and scope of threats to the United States and develop a comprehensive national plan for securing the Nation's critical infrastructure and key resources (CIKR). At DHS, this responsibility is managed by IP within NPPD. In Fiscal Year 2006, IP engaged in the annual development of a list of CIKR assets and systems to improve IP's CIKR prioritization efforts; this list is called the Critical Infrastructure List. The Critical Infrastructure List includes assets and systems that, if destroyed, damaged or otherwise compromised, could result in significant consequences on a regional or national scale.

The IP Data Call is administered out of the IP Infrastructure Information Collection Division (IICD). The IP Data Call provides opportunities for states and territories to collaborate with DHS and its Federal partners in CIKR protection. DHS, state, and territorial Homeland Security Advisors (HSA), Sector Specific Agencies (SSA), and territories build their CIKR data using the IP Data Call application. To ensure that HSAs, SSAs, and territories are able to achieve this mission, IP requests opinions and information in a survey from IP Data Call participants regarding the IP Data Call process and the web-based application used to collect the CIKR data. The survey data collected is for internal IP/IICD use only.

IP/IICD will use the results of the IP Data Call Survey to determine levels of customer satisfaction with the IP Data Call process and the IP Data Call application and prioritize future improvements. The results will also allow IP to appropriate funds cost effectively based on user need, and improve the process and application.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Infrastructure Protection Data Call.

OMB Number: 1670-NEW.

Frequency: On occasion.

Affected Public: Federal, state, local, tribal, or territorial government.

Number of Respondents: 558 respondents.

Estimated Time per Respondent: 15 minutes.

Total Burden Hours: 140 annual burden hours.

Total Burden Cost (capital/startup): $30,000.

Total Burden Cost (operating/maintaining): $25,513.

Dated: March 22, 2011.
David Epperson,
Chief Information Officer, National Protection and Programs Directorate, Department of Homeland Security.

[FR Doc. 2011-7593 Filed 3-30-11; 8:45 am]

BILLING CODE P